CONSUMER PRODUCT SAFETY COMMISSION

[Docket No. CPSC-2012-0058]

Agency Information Collection Activities; Extension of Collection; Comment Request; Safety Standard for Walk-Behind Power Lawn Mowers

AGENCY: Consumer Product Safety Commission.

ACTION: Notice of information collection; request for comment.

SUMMARY: As required by the Paperwork Reduction Act of 1995 (PRA), the Consumer Product Safety Commission (CPSC or Commission) requests comments on a proposed extension of approval of information collection requirements associated with the Safety Standard for Walk-Behind Power Lawn Mowers. The Office of Management and Budget (OMB) previously approved the collection of information under control number 3041-0091. OMB's most recent extension of approval will expire on November 30, 2025. The Commission will consider all comments received in response to this notice before requesting an extension of this collection of information from OMB.

DATES: Submit comments on the collection of information by November 24, 2025.

ADDRESSES: You may submit comments, identified by Docket No. CPSC-2012-0058, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/Hand Delivery/Courier/Written Submissions: CPSC encourages you to submit electronic comments by using the Federal eRulemaking Portal. You may, however, submit comments by mail/hand delivery/courier to: Office of the Secretary, U.S. Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2012-0058 into the “Search” box, and follow the prompts.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Safety Standard for Walk-Behind Lawn Mowers.

OMB Number: 3041-0091.

Type of Review: Renewal of collection.

Frequency of Response: On occasion.

Affected Public: Manufacturers and importers of walk-behind power lawn mowers.

General Description of Collection: The Safety Standard for Walk-Behind Power Lawn Mowers (16 CFR part 1205) addresses blade contact injuries. Subpart B of the standard sets forth regulations prescribing requirements for a reasonable testing program to support certificates of compliance with the standard for walk-behind power lawn mowers. Section 14(a) of the CPSA requires manufacturers, importers, and private labelers of a consumer product subject to a consumer product safety standard to issue a certificate stating that the product complies with all applicable consumer product safety standards. 15 U.S.C. 2063(a). Section 14(a) of the CPSA also requires that the certificate of compliance must be based on a test of each product or upon a reasonable testing program. Id. The rule requires manufacturers (including importers) to establish and maintain written records showing that the certificates of compliance issued are based on a test of each mower or on a reasonable testing program. The records are to be maintained for a period of at least three years from the date of certification of each mower or each production lot. The rule also requires that the certificates be in the form of a label on the product stating (1) “Meets CPSC blade safety requirements”; (2) an identification of the production lot; (3) the name of the person or firm issuing the certificate; (4) the location where the product was principally assembled; and (5) the month and year the product was manufactured. See 16 CFR 1205.35(a)-(b).

Estimated Number of Respondents: CPSC estimates approximately 34 lawn-mower suppliers will respond to the collection annually.

Estimated Time per Response: Based on subject matter knowledge and previous experience during compliance inspections conducted for lawn mowers subject to the standard, CPSC estimates that each respondent expends eight hours daily engaged in compiling and maintaining a testing record to support the certification of a production lot of lawn mowers. This may involve testing approximately five to six lawn mowers per day and recording test results in some form of a retrievable record system. CPSC assumes testing is performed over 130 estimated yearly production days, based on a highly seasonal production period. Thus, total hour burden to respondents for the recordkeeping associated with testing to support certification is estimated to be 1,040 hours per respondent (8 × 130). For the specified labeling requirements, the information should be readily available, and it could take a manufacturer an additional hour per production day to collect the information and place it on the label. Therefore, an additional 130 hours per respondent have been added to the total burden, which is 1,170 hours (1,040 + 130).

Total Estimated Annual Burden: CPSC estimates that the annual burden for compiling and maintaining a testing record to support certification is estimated to be 35,360 hours (34 respondents × 1,040 hours). The estimated additional burden related to labeling is 4,420 hours. The total annual burden hours related to recordkeeping associated with certification, and labeling are estimated to be 39,780 hours for the collection of information annually (35,360 + 4,420).

Total Estimated Annual Cost to Respondents: CPSC estimates that the cost of collecting information related to testing is approximately $2,729,438.40 based on 35,360 hours × $77.19 (total compensation for management, professional, and related workers in goods-producing industries) and annual cost burden related to labeling is estimated to be $183,827.80 based on 4,420 hours × $41.59 (total compensation for all sales and office workers in goods-producing industries).¹ Therefore, total annual burden costs related to the information collection are estimated to be $2,913,266.20 ($2,729,438.40 + $183,827.80).

¹ U.S. Bureau of Labor Statistics, “Employer Costs for Employee Compensation,” March 2025, Table 4, https://www.bls.gov/news.release/archives/ecec_06132025.pdf.

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-18427 Filed 9-22-25; 8:45 am]

BILLING CODE 6355-01-P